DEPARTMENT OF AGRICULTURE

Rural Utilities Service

Communities' Access to Local Television; Request for Information

AGENCY: Rural Utilities Service, USDA.

ACTION: Request for public comment and notice of public discussion meetings.

SUMMARY: The Rural Utilities Service (RUS) seeks written comments and will host informal meetings with interested parties on implementing the provisions of Public Law 106-553, “Launching Our Communities' Access to Local Television Act of 2000” (the Act). The Act provides for a guaranteed loan program intended to facilitate access, on a technologically neutral basis, to signals of local television stations for households located in nonserved areas and underserved areas.

Among other matters, the Act requires the Administrator, RUS, to prescribe regulations to implement the Act and to issue and otherwise administer loan guarantees approved by a board of Federal officials. In order to afford the public the maximum opportunity to contribute to the development of this new program and to enable the Agency to consider as many options as possible, RUS is requesting comments to assist in the drafting of the proposed rule.

DATES: Interested parties must submit written comments on or before April 13, 2001. RUS encourages interested parties to make arrangements for informal meetings with RUS staff on or before April 13, 2001. By further notice in the Federal Register, RUS may terminate, limit, or otherwise modify the process of obtaining information from interested parties.

ADDRESSES: Submit written comments to Roberta D. Purcell, Assistant Administrator, Telecommunications Program, Rural Utilities Service, United States Department of Agriculture, 1400 Independence Av., SW., stop 1590, room 4056-S, Washington, DC 20250-1560. RUS requires, in hard copy, a signed original and 3 copies of all comments (7 CFR 1700.4). Comments will be available for public inspection during normal business hours (7 CFR part 1).

FOR FURTHER INFORMATION: To arrange an informal meeting, contact Roberta D. Purcell, Assistant Administrator, Telecommunications Program, Rural Utilities Service, United States Department of Agriculture, 1400 Independence Avenue, SW., stop 1590, room 4056-S, Washington, DC 20250-1560. Phone: 202-720-9554. Fax: 202-720-0810. E-mail: bpurcell@rus.usda.gov. All meetings will be arranged in a manner and at such times as are convenient to RUS. A meeting may include several interested parties.

SUPPLEMENTARY INFORMATION:

Background

On December 21, 2000, the President signed the “Launching Our Communities' Access to Local Television Act of 2000,” Pub. L. 06-553 (the “Act”). The Act provides for the establishment of the Local Television Loan Guarantee Board (the “Board”), which consists of the Secretaries of Agriculture, Treasury, Commerce, and the Chair of the Board of Governors of the Federal Reserve System, or their designees. The Board may approve loan guarantees up to 80% of not in excess of $1.25 billion of loans, to facilitate access, on a technologically neutral basis, to signals of local television stations for households located in nonserved areas and underserved areas. The Act provides that, among other matters, the Administrator of RUS shall prescribe regulations to implement the Act and shall issue and otherwise administer loan guarantees approved by the Board. Congress has not yet provided appropriations for these guarantees, but may do so in the near future. The Act contains several specialized technical and business provisions and may be found in its entirety on the RUS website (www.rurdev.usda.gov/rus).

In light of its statutory role in implementing and administering the Act's loan guarantee program, RUS is currently analyzing the provisions of the Act, identifying issues potentially affecting the implementation of the program, and considering how the program can be effectively implemented. RUS is interested in receiving information regarding all aspects, including any financial and technological implications, of the program as well as analyses of any provisions of the Act that may present issues or practical problems in implementing the program. RUS invites interested parties including, but not limited to, financial and lending institutions, equipment providers, facility and other TV broadcast providers, cable and satellite providers, trade associations, consumer groups, and individuals to comment on a series of questions and provide RUS, in writing and in informal meetings, any information or analyses they believe to be relevant to the implementation of the loan guarantee program.

Questions for Public Comment

Interested parties are requested to submit comments and are encouraged to participate in informal meetings regarding the implementation of a guaranteed loan program to provide the highest quality access to signals of local television stations to the largest number of rural households located in nonserved and underserved areas in the most economical and expedient manner. The questions below should serve as a guide and are not intended to limit comments or discussions regarding the guaranteed loan program.

1. Identify the technologies capable of providing high quality access to local television and the advantages and disadvantages of each (i.e. the financial, operational, and technological risks and rewards). For any wireless technology, what is the availability and estimated cost of sufficient spectrum?

2. What technology or combination of technologies would be the most cost effective method of delivering local TV signals to the largest number of nonserved and underserved rural residences not located in the top 40 designated market areas (as that term is defined in section 122(j) of title17, United States Code)?

3. What is an acceptable minimum quality of service? If a system can be expanded to deliver high quality (HDTV or neat HDTV) service, what criteria should be used to evaluate the system?

4. Identify the revenues and expenses associated with providing local broadcast signals. Discuss industry practices for setting fees for transmitting local signals.

5. What additional factors should be considered to accomplish the goals of the Act?

6. What, if any, effect will “must carry” have on the possible technologies being considered?

Dated: February 7, 2001.
Blaine D. Stockton,
Acting Administrator, Rural Utilities Service.

[FR Doc. 01-6248 Filed 3-13-01; 8:45 am]

BILLING CODE 3410-15-P